DEPARTMENT OF THE INTERIOR

Fish and Wildlife Service

Chesapeake Marshlands National Wildlife Refuge Complex (Including Blackwater, Martin and Susquehanna National Wildlife Refuges)

AGENCY: Fish and Wildlife Service, Interior.

ACTION: Notice of availability: Final comprehensive conservation plan and finding of no significant impact.

SUMMARY: The Fish and Wildlife Service (Service) announces that the final Comprehensive Conservation Plan (CCP) is available for Chesapeake Marshlands National Wildlife Refuge (NWR) Complex (including Blackwater, Martin and Susquehanna NWRs). This CCP is required pursuant to the National Wildlife Refuge System Administration Act of 1966, as amended by the National Wildlife Refuge System Improvement Act of 1997 (16 U.S.C. 668 dd et seq.), and the National Environmental Policy Act of 1969. The CCP describes how the Service intends to manage the complex over the next 15 years.

ADDRESSES: Copies of the CCP are available on compact diskette or in hard copy, and may be obtained by writing Bill Perry, Refuge Planner, U.S. Fish and Wildlife Service, 300 Westgate Center Drive, Hadley, MA 01035, or by electronic mail at northeastplanning@fws.gov. These documents may also be accessed at the Web address http://library.fws.gov/ccps.htm.

FOR FURTHER INFORMATION CONTACT: Bill Perry, Refuge Planner at the above address, 413-253-8371, or electronic mail at Bill_Perry@fws.gov.

SUPPLEMENTARY INFORMATION: The purpose of developing a CCP is to provide refuge managers with a 15-year strategy for achieving refuge purposes and contributing toward the mission of the National Wildlife Refuge System, consistent with sound principles of fish and wildlife science, legal mandates, and Service policies. In addition to outlining broad management direction on conserving wildlife and habitats, a CCP identifies wildlife-dependent recreational opportunities available to the public, including opportunities for hunting, fishing, wildlife observation and photography, and environmental education and interpretation. The CCP will be reviewed and updated at least every 15 years.

Established in 1933, Blackwater NWR is the oldest and largest in the complex. It encompasses 23,686 acres and consists of extensive marshes, moist-soil impoundments, and croplands that form a mosaic of habitats important to migrating and wintering waterfowl. The forests of Blackwater NWR provide unique and important habitats for a variety of migratory songbirds, the bald eagle, and the largest remaining population of the Federal-listed endangered Delmarva fox squirrel. Martin NWR was established in 1954. It consists of 4,569 acres and is closed to the public. Tidal marsh, coves and creeks and vegetated ridges form a habitat complex important to thousands of migratory waterfowl and nesting songbirds. Susquehanna NWR was established in 1942 and consists of a 4-acre island with scattered trees mixed in with grass and shrubs. Eastern Neck NWR is a 2,286-acre refuge that was established in 1962. This refuge is not included in this CCP, and will undergo the planning process for a CCP at a later date.

Our final CCP includes management direction for each of the three refuges, and includes habitat management and public use goals and objectives based on the vision for the refuge that has been developed as a part of the CCP process. Our adopted management direction represents adaptive management based on the results of scientific survey and monitoring programs. It focuses on restoring, enhancing, and maintaining ecological processes and natural biological communities and biodiversity. It emphasizes managing the complex for the benefit of all migratory bird species, maintaining and recovering endangered or threatened species, restoring submerged aquatic vegetation and wetlands, reducing or eliminating invasive plant and animal species, and adding research and inventories, including those for butterflies, reptiles, amphibians and fish.

The final CCP includes the decision to expand the boundary of Blackwater NWR, primarily through partnerships and easements, in two areas: 15,300 acres surrounding the refuge, and 16,000 acres east of the refuge along the Nanticoke River. All of that acreage contains low-lying forest and marsh habitats.

Finally, the CCP improves our ability to provide opportunities for compatible, wildlife-dependent recreation. This includes a new, accessible fishing pier and parking area at Key Wallace Bridge, new hiking and canoe trails, a canoe access ramp and wetland observation deck, rebuilding the wildlife observation tower, remodeling and expanding the visitor center, updating the exhibits at the center, enhancing signage, providing new hunting opportunities for turkey, resident Canada geese, and waterfowl, and providing many more outreach and environmental education programs.

The Service solicited comments on the draft CCP/EA for Chesapeake Marshlands NWR Complex from May 3 through July 15, 2005. We developed a list of substantive comments that required responses. Editorial suggestions and notes of concurrence with, or opposition to, certain proposals were noted and included in the decision making process, but did not receive formal responses. The final CCP includes responses to all substantive comments. Comments are considered substantive if they:

• Question, with reasonable basis, the accuracy of the information in the document,

• Question, with reasonable basis, the adequacy of the environmental analysis,

• Present reasonable alternatives other than those presented in the EA,

• Cause changes or revisions in the CCP,

• Provide new or additional information relevant to the analysis.

Based upon the comments we received, we chose management alternative B to develop into the final CCP, with the following modifications:

• Land Protection: We received a mixed response to the proposed boundary expansion. While there was a degree of support, a number of comments expressed concern about the scope of the Land Protection Plan (LPP) and proposed boundary expansion. Some comments indicated a concern about the potential for condemnation of land by the Service.

We revised the LPP to include protection measures other than fee-title acquisition for the Nanticoke Division of Blackwater NWR. The use of easements and management agreements, for example, is authorized for this division. Fee-title acquisition is authorized only for the boundary expansion contiguous to the existing Blackwater NWR.

• Marshbird Habitat Improvement: We received comments that the CCP should recognize the distinctness and conservation value of the brackish marsh bird community and plan for its long term management.

We have added a new objective to Goal 1 to capture the significance of the brackish marsh bird community and future management strategies, including the need to adaptively manage fire in marsh ecosystems.

Dated: August 7, 2006.
Richard O. Bennett,
Acting Regional Director, U.S. Fish and Wildlife Service, Hadley, Massachusetts.

[FR Doc. E6-15507 Filed 9-18-06; 8:45 am]

BILLING CODE 4310-55-P